DEPARTMENT OF LABOR

Employment and Training Administration

Investigations Regarding Certifications of Eligibility To Apply for Worker Adjustment Assistance and Alternative Trade Adjustment Assistance

Petitions have been filed with the Secretary of Labor under section 221 (a) of the Trade Act of 1974 (“the Act”) and are identified in the Appendix to this notice. Upon receipt of these petitions, the Director of the Division of Trade Adjustment Assistance, Employment and Training Administration, has instituted investigations pursuant to section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Director, Division of Trade Adjustment Assistance, at the address shown below, not later than October 26, 2006.

Interested persons are invited to submit written comments regarding the subject matter of the investigations to the Director, Division of Trade Adjustment Assistance, at the address shown below, not later than October 26, 2006.

The petitions filed in this case are available for inspection at the Office of the Director, Division of Trade Adjustment Assistance, Employment and Training Administration, U.S. Department of Labor, Room C-5311, 200 Constitution Avenue, NW., Washington, DC 20210.

Signed at Washington, DC, this 3rd day of October, 2006.
Linda G. Poole,
Certifying Officer, Division of Trade Adjustment Assistance.

Appendix [TAA Petitions Instituted Between 9/25/06 and 9/29/06]
TA-W | Subject firm (petitioners) | Location | Date of institution | Date of petition
60130 | AJS Controls, Inc. (Comp) | Sidney, NY | 09/25/06 | 09/21/06
60131 | New United Motor Manufacturing, Inc. (NUMMI) (State) | Fremont, CA | 09/25/06 | 09/22/06
60132 | Mansfield Plumbing Products (Wkrs) | Perrysville, OH | 09/25/06 | 09/25/06
60133 | Rosboro (Union) | Springfield, OR | 09/26/06 | 09/23/06
60134 | Alatech Healthcare, LLC (Comp) | Slocomb, AL | 09/26/06 | 09/25/06
60135 | Rothtec Engraving Corp. (Wkrs) | Charlotte, NC | 09/26/06 | 09/24/06
60136 | Owens-Illinois (Union) | Godfrey, IL | 09/26/06 | 09/25/06
60137 | Mudd Jeans, LLC (Wkrs) | New York, NY | 09/26/06 | 09/11/06
60138 | Quaker Fabric Corporation of Fall River (State) | Fall River, MA | 09/26/06 | 09/25/06
60139 | Pechiney Plastic Packaging, Inc. (Comp) | San Leandro, CA | 09/26/06 | 09/18/06
60140 | TAP Holdings, LLC (Comp) | Los Angeles, CA | 09/26/06 | 09/19/06
60141 | ESCO Company, Limited Partnership (Comp) | Muskegon, MI | 09/26/06 | 09/19/06
60142 | PPG Industries (Wkrs) | Lexington, NC | 09/26/06 | 09/22/06
60143 | Bloomsburg Mills (Comp) | New York, NY | 09/26/06 | 09/25/06
60144 | Ethan Allen Operations, Inc. (Comp) | Atoka, OK | 09/26/06 | 09/08/06
60145 | Schutt Sports (Wkrs) | Salem, IL | 09/26/06 | 09/20/06
60146 | Jabil (Comp) | Auburn Hills, MI | 09/26/06 | 09/26/06
60147 | Superior Lumber Company (Wkrs) | Glendale, OR | 09/27/06 | 09/25/06
60148 | Monadnock Specialty Coatings, LLC (Comp) | Binghamton, NY | 09/27/06 | 09/26/06
60149 | Bloch Washington (Comp) | Seattle, WA | 09/27/06 | 09/21/06
60150 | Celestica (Comp) | Westminster, CO | 09/27/06 | 09/25/06
60151 | CEP Products (Comp) | Lapeer, MI | 09/27/06 | 09/15/06
60152 | Aimsworth Engineered (State) | Grand Rapids, MN | 09/27/06 | 09/27/06
60153 | Saint-Gobain Containers (Wkrs) | El Monte, CA | 09/27/06 | 09/19/06
60154 | Lucas Ford Lincoln Mercury, Inc (State) | Southold, NY | 09/27/06 | 09/27/06
60155 | Technicolor Video Cassette of Michigan (Wkrs) | Livonia, MI | 09/27/06 | 09/23/06
60156 | Thermo Electron RMSI (Comp) | Santa Fe, NM | 09/27/06 | 09/27/06
60157 | Visteon (Union) | Connersville, IN | 09/27/06 | 09/22/06
60158 | Geneva Steel LLC (COMP) | Lindon, UT | 09/28/06 | 09/27/06
60159 | Brown International Corporation (Wkrs) | Covina, CA | 09/28/06 | 09/27/06
60160 | Multi-Fineline Electronix, Inc. (Wkrs) | Anaheim, CA | 09/28/06 | 09/28/06
60161 | Wright and Lato Inc. (Union) | E. Orange, NJ | 09/28/06 | 09/26/06
60162 | Ison Transport Inc. (COMP) | Ontonagon, MI | 09/29/06 | 09/28/06
60163 | Gallman Wire Technologies (COMP) | Gallman, MS | 09/29/06 | 09/28/06
60164 | ZF Boge Elastametall (COMP) | Paris, IL | 09/29/06 | 09/28/06
60165 | Emerson Climate Technologies (COMP) | Murfreesboro, TN | 09/29/06 | 09/18/06
60166 | Up North Industries (Wkrs) | Petoskey, MI | 09/29/06 | 09/28/06
60167 | Andrew Massachusetts (AFMA) (COMP) | Amesbury, MA | 09/29/06 | 09/26/06
60168 | Korn Industries Inc. (COMP) | Sumter, SC | 09/29/06 | 09/20/06
60169 | Cognex Corporation (COMP) | Natick, MA | 09/29/06 | 09/19/06
60170 | AET Films Incorporated (Union) | Covington, VA | 09/29/06 | 09/29/06
60171 | Nisource/Columbia Gas Transmission (Wkrs) | Charleston, WV | 09/29/06 | 09/27/06

[FR Doc. E6-17114 Filed 10-13-06; 8:45 am]

BILLING CODE 4510-30-P